DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of April 18, 2011 through April 22, 2011.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
74,931 | Matrix Tool and Mold, Inc | Trinity, NC | October 30, 2009.
75,003 | Velsicol Chemical, LLC, True Specialties Corp., Quarles Building Maintenance, and Murray Guard | Memphis, TN | December 15, 2009.
75,102 | Guilford Mills, Inc., Pine Grove Facility; Leased Workers from One Source | Pine Grove, PA | February 10, 2010.
75,207 | The Pierce Company, Inc., A Subsidiary of Avis Industrial Corporation | Upland, IN | February 9, 2010.
75,247 | Jones Distribution Corporation, A Subsidiary of The Jones Group; Leased Workers of Southwest Staffing, Inc | Socorro, TX | February 11, 2010.
75,291 | CCI Systems, Inc | Iron Mountain, MI | February 14, 2010.

The following certifications have been issued. The requirements of Section 222(a)(2)(B) (shift in production or services) of the Trade Act have been met.

TA-W No. | Subject firm | Location | Impact date
74,810 | Symantec Corporation, SQA Engineering, VCS and VCS-One Group | Austin, TX | November 1, 2009.
74,810A | Symantec Corporation, SQA Engineering, VCS and VCS-One Group | Mountain View, CA | November 1, 2009.
74,810B | Symantec Corporation, SQA Engineering, VCS and VCS-One Group | Beaverton, OR | November 1, 2009.
75,113 | Thomas & Betts Corporation, HVAC Division | Mercer, PA | January 14, 2010.
75,155 | Hitachi Global Storage Technologies, Inc., Hitachi Global Storage Technologies Holdings PTE., LTD, Manpower, Inc. | San Jose, CA | January 31, 2010.
75,203 | Sigue Corporation | Sylmar, CA | February 7, 2010.
75,217 | MEMC Electronic Materials, Inc., Including On-Site Leased Workers from Adecco | St. Peters, MO | May 24, 2010.
75,231 | Comcast Corporation, Call Center | Nashville, TN | February 10, 2010.
75,238 | McNeil Consumer Healthcare, McNeil-PPC, Inc., Johnson & Johnson, Leased Workers of Worksense | Fort Washington, PA | January 11, 2010.
75,262 | Highmark, Health Plan Operations, Workers Working from Home in PA | Pittsburgh, PA | February 11, 2010.
75,262A | Highmark, Health Plan Operations Division | Camp Hill, PA | February 11, 2010.
75,262B | Highmark, Health Plan Operations Division | Erie, PA | February 11, 2010.
75,262C | Highmark, Health Plan Operations Division | Johnstown, PA | February 11, 2010.
75,290 | CSC, Managed Services Sector Division Working at Client Sites in Schaumburg, IL | Schaumburg, IL | February 14, 2010.
75,290A | CSC, Managed Services Sector Division Working at Client Sites in Phoenix, AZ | Phoenix, AZ | February 14, 2010.
75,290B | CSC, Managed Services Sector Division Working at Client Sites in Woodland Hills | Woodland Hills, CA | February 14, 2010.
75,290C | CSC, Managed Services Sector Division Working at Client Sites in Los Angeles, CA | Los Angeles, CA | February 14, 2010.
75,290D | CSC, Managed Services Sector Division Working at Client Sites in Simi Valley, CA | Simi Valley, CA | February 14, 2010.
75,290E | CSC, Managed Services Sector Division Working at Client Sites in Davie, FL | Davie, FL | February 14, 2010.
75,290F | CSC, Managed Services Sector Division Working at Client Sites in Alpharetta, GA | Alpharetta, GA | February 14, 2010.
75,290G | CSC, Managed Services Sector Division Working at Client Sites in Pocatello, ID | Pocatello, ID | February 14, 2010.
75,290H | CSC, Managed Services Sector Division Working at Client Sites in Olathe, KS | Olathe, KS | February 14, 2010.
75,290I | CSC, Managed Services Sector Division Working at Client Sites in Overland Park, KS | Overland Park, KS | February 14, 2010.
75,290J | CSC, Managed Services Sector Division Working at Client Sites in Baltimore, MD | Baltimore, MD | February 14, 2010.
75,290K | CSC, Managed Services Sector Division Working at Client Sites in Owings Mills, MD | Owings Mills, MD | July 29, 2011.
75,290L | CSC, Managed Services Sector Division Working at Client Sites in Caledonia, MI | Caledonia, MI | February 14, 2010.
75,290M | CSC, Managed Services Sector Division Working at Client Sites in Omaha, NE | Omaha, NE | February 14, 2010.
75,290N | CSC, Managed Services Sector Division Working at Client Sites in Melville, NY | Melville, NY | February 14, 2010.
75,290O | CSC, Managed Services Sector Division Working at Client Sites in New York, NY | New York, NY | February 14, 2010.
75,290P | CSC, Managed Services Sector Division Working at Client Sites in Independence, OH | Independence, OH | February 14, 2010.
75,290Q | CSC, Managed Services Sector Division Working at Client Sites in Oklahoma City, OK | Oklahoma City, OK | February 14, 2010.
75,290R | CSC, Managed Services Sector Division Teleworkers from AZ, CA, CO, FL, GA, etc | Teleworkers from AZ, CA, CO, FL, GA, etc. | February 14, 2010.
75,311 | Agilent Technologies, Inc., Chemical Analysis Group, Little Falls Procurement; Remote and Leased Workers | Wilmington, DE | February 14, 2010.

The following certifications have been issued. The requirements of Section 222(c) (supplier to a firm whose workers are certified eligible to apply for TAA) of the Trade Act have been met.

TA-W No. | Subject firm | Location | Impact date
74,899 | Tasman Hartford, LLC | Hartford, WI | November 17, 2009.

Negative Determinations for Worker Adjustment Assistance

In the following cases, the investigation revealed that the eligibility criteria for worker adjustment assistance have not been met for the reasons specified.

The investigation revealed that the criterion under paragraph (a)(1), or (b)(1), or (c)(1)(employment decline or threat of separation) of section 222 has not been met.

TA-W No. | Subject firm | Location | Impact date
75,140 | Donald A. Holland Consulting | Enumclaw, WA |

The investigation revealed that the criteria under paragraphs(a)(2)(A) (increased imports) and (a)(2)(B) (shift in production or services to a foreign country) of section 222 have not been met.

TA-W No. | Subject firm | Location | Impact date
74,878 | GKN Aerospace Chem-Tronics, Inc., A Division of GKN America Corporation | Kent, WA |
74,900 | ISP Stitching and Bindery Products, A Subsidiary of Samuel Strapping Systems | Racine, WI |
75,024 | Havells USA, Inc., Havells Netherlands, Havells India, SLI Lighting Products, Olsten Staffing | Mullins, SC |
75,026 | C & R Lumber Mill, LLC | Charleston, ME |
75,133 | McComb Mill Warehouse | McComb, MS |
75,138 | Ashland Foundry and Machine Works, Inc | Ashland, PA |
75,183 | Reynolds Food Packaging, LLC, A Subsidiary of Reynolds Group Holding Limited | Grove City, PA |
75,211 | US Airways, Inc., Fleet Service Operations, Buffalo-Niagara International Airport | Buffalo, NY |
75,292 | ConocoPhillips Alaska Natural Gas Company, A Joint Venture with Marathon Oil; Kenai Plant | Nikiski, AK |
75,312 | R.J. Reynolds Tobacco Company, Subsidiary of Reynolds American, Inc.; Leased Workers from Debbie's Staffing | Winston Salem, NC |

I hereby certify that the aforementioned determinations were issued during the period of April 18, 2011 through April 22, 2011. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's Web site at http://www.doleta.gov/tradeact under the searchable listing of determinations.

Dated: April 26, 2011.
Elliott S. Kushner,
Certifying Officer, Office of Trade Adjustment Assistance.

[FR Doc. 2011-10604 Filed 5-2-11; 8:45 am]

BILLING CODE 4510-FN-P